DEPARTMENT OF COMMERCE

International Trade Administration

[A-533-809]

Stainless Steel Flanges from India: Notice of Initiation of Antidumping Duty New Shipper Reviews

AGENCY: Import Administration, International Trade Administration, Department of Commerce.

SUMMARY: The Department of Commerce (the Department) has received requests for new shipper reviews of the antidumping duty order on certain forged stainless steel flanges (flanges) from India issued on February 9, 1994. See Amended Final Determination and Antidumping Duty Order; Certain Forged Stainless Steel Flanges from India, 59 FR 5994 (February 9, 1994). In accordance with section 751(a)(2)(B) of the Tariff Act of 1930, as amended (the Act), and 19 CFR 351.214(d) (2005), we are initiating antidumping new shipper reviews of Kunj Forgings Pvt. Ltd. (Kunj), Micro Forge (India), Ltd. (Micro), Pradeep Metals Limited (Pradeep), and Rollwell Forge, Ltd. (Rollwell), exporters and producers that requested new shipper reviews.

EFFECTIVE DATE: April 6, 2006.

FOR FURTHER INFORMATION CONTACT: Fred Baker, Michael Heaney, or Robert James, AD/CVD Operations, Office 7, Import Administration, International Trade Administration, U.S. Department of Commerce, 14th Street and Constitution Avenue, NW., Washington, DC 20230, telephone: (202) 482-2924, (202) 482-4475, or (202) 482-0649, respectively.

SUPPLEMENTARY INFORMATION:

Background

In accordance with section 751(a)(2)(B) of the Act and 19 CFR 351.214(d), the Department received timely requests submitted by Kunj, Micro, Pradeep, and Rollwell (all producers and exporters of flanges) for new shipper reviews of the antidumping duty order on flanges from India. See February 28, 2006, letters from Kunj, Micro, Pradeep, and Rollwell to the Secretary of Commerce requesting new shipper reviews.

Pursuant to 19 CFR 351.214(b), Kunj, Micro, Pradeep, and Rollwell certified that they are both exporters and producers of the subject merchandise, that they did not export subject merchandise to the United States during the period of the investigation (POI) (July 1, 1992 through December 31, 1992), and that since the investigation was initiated, they have not been affiliated with any producer or exporter who exported the subject merchandise to the United States during the POI. They also submitted documentation establishing the date on which they first shipped the subject merchandise to the United States, the volume of those shipments, and the date of their first sales to unaffiliated customers in the United States. They also certified they had no shipments to the United States during the period subsequent to their first shipments.

Initiation of Review

In accordance with section 751(a)(2)(B) of the Act and section 351.214(d) of the Department's regulations, we find that the requests submitted by Kunj, Micro, Pradeep, Rollwell meet the threshold requirements for initiation of a new shipper review. Accordingly, we are initiating new shipper reviews of the antidumping duty order on flanges from India manufactured and exported by Kunj, Micro, Pradeep, and Rollwell. These reviews cover the period February 1, 2005, through January 31, 2006. We intend to issue the preliminary results of these reviews no later than 180 days after the date on which these reviews are initiated, and the final results within 90 days after the date on which we issue the preliminary results. See section 751(a)(2)(B)(iv) of the Act.

We will instruct U.S. Customs and Border Protection to suspend liquidation of any unliquidated entries of the subject merchandise from Kunj, Micro, Pradeep, and Rollwell, and allow, at the option of the importer, the posting, until completion of the reviews, of a bond or security in lieu of a cash deposit for each entry of the merchandise produced and exported by Kunj, Micro, Pradeep, and Rollwell in accordance with section 751(a)(2)(B)(iii) of the Act and 19 CFR 351.214(e). Because each of the four companies certified that it both produces and exports the subject merchandise, the sales of which are the basis for these new shipper review requests, we will permit the bonding privilege only for those entries of subject merchandise for which the company is both the manufacturer and the exporter.

Interested parties may submit applications for disclosure under administrative protective order in accordance with 19 CFR 351.305 and 351.306.

This initiation and this notice are issued and published in accordance with section 751(a)(2)(B) of the Act and sections 351.214(d) and 351.221(c)(1)(i) of the Department's regulations.

Dated: March 31, 2006.
Stephen Claeys,
Deputy Assistant Secretary for Import Administration.

[FR Doc. E6-5027 Filed 4-5-06; 8:45 am]

BILLING CODE 3510-DS-S